DEPARTMENT OF AGRICULTURE

Agricultural Marketing Service

[Docket # FV-03-335]

United States Standards for Grades of Frozen Onions

AGENCY: Agricultural Marketing Service, USDA.

ACTION: Reopening and extension of the comment period.

SUMMARY: Notice is hereby given that the comment period on the proposed new United States Standard for Grades of Frozen Onions is reopened and extended.

DATES: Comments may be submitted on or before June 12, 2003.

ADDRESSES: Written comments may be submitted to: Chere L. Shorter, Processed Products Branch, Fruit and Vegetable Programs, Agricultural Marketing Service, U.S. Department of Agriculture, STOP 0247, 1400 Independence Avenue, SW., Washington, D.C. 20250-0247; fax (202) 690-1087; or e-mail chere.shorter@usda.gov. Comments should reference the date and page of this issue of the Federal Register. All comments received will be made available for public inspection at the address listed above during regular business hours and on the Internet. The draft of the United States Standards for Grades of Frozen Onions is available either through the address cited above or by accessing the AMS website on the Internet at: www.ams.usda.gov/fv/ ppb.html. Any comments received, regarding this proposed standard will also be posted on that site.

FOR FURTHER INFORMATION CONTACT: Chere L. Shorter at (202) 720-5021 or e-mail at chere.shorter@usda.gov.

SUPPLEMENTARY INFORMATION: A notice was published in the Federal Register (on March 12, 2003, Page 11801-11802) requesting comments on a proposed United States Standard for Grades of Frozen Onions. The action would create grade standards for frozen onions that will include a description of the product, style, grades, ascertaining the grade by sample, and ascertaining the grade by lot. The proposed standard would provide a common language for trade, a means of measuring value in the marketing of frozen onions.

A major trade association, American Frozen Food Institute (AFFI) representing frozen food processors, requested that additional time be provided for interested persons to comment on the proposed standard. AFFI believes that extending the comment period will enable enough time to assemble all the comments from their members and to reach a consensus among the many processors in their membership. After reviewing the request, the Department is reopening and extending the common period in order to allow sufficient time for all interested persons to file comments. This notice provides for an additional 30 day comment period for interested parties to comment on the standards.

Dated: May 13, 2003.
Kenneth C. Clayton,
Acting Administrator, Agricultural Marketing Services.

[FR Doc. 03-12430 Filed 5-16-03; 8:45 am]

BILLING CODE 3410-02-P